FEDERAL COMMUNICATIONS COMMISSION

47 CFR Part 96

[GN Docket No. 12-354; FCC 15-47]

Amendment of the Commission's Rules With Regard to Commercial Operations in the 3550-3650 MHz Band

AGENCY: Federal Communications Commission.

ACTION: Final rule; announcement of effective date.

SUMMARY: In this document, the Federal Communications Commission (Commission) announces that the Office of Management and Budget (OMB) has approved, via a non-substantive change request, the information collection requirements associated with Commercial Operations in the 3550-3650 MHz Band adopted in the Commission's First Report and Order, GN Docket No. 12-354, FCC 15-47. This document is consistent with the First Report and Order, which stated that the Commission would publish a document in the Federal Register announcing OMB approval and the effective date of the requirements.

DATES: 47 CFR 96.49, published at 80 FR 36163, June 23, 2015, is effective on August 22, 2017.

FOR FURTHER INFORMATION CONTACT: For additional information, contact Cathy Williams, Cathy.Williams@fcc.gov, (202) 418-2918.

SUPPLEMENTARY INFORMATION: This document announces that, on August 7, 2015, OMB approved, via a non-substantive change request, the information collection requirements associated with two technical rules (47 CFR 96.49 and 96.51) adopted in the Commission's First Report and Order, FCC 15-47, published at 80 FR 36163, June 23, 2015. The OMB Control Number is 3060-0057. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Number 3060-0057 in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on August 7, 2015, for the non-substantive change to information collection requirements contained in the Commission's rules at 47 CFR 96.49 and 96.51. Under 5 CFR part 1320, an agency may not conduct or sponsor a collection of information unless it displays a current, valid OMB Control Number.

No person shall be subject to any penalty for failing to comply with a collection of information subject to the Paperwork Reduction Act that does not display a current, valid OMB Control Number. The OMB Control Numbers is 3060-0057.

The foregoing notice is required by the Paperwork Reduction Act of 1995, Public Law 104-13, October 1, 1995, and 44 U.S.C. 3507.

The total annual reporting burdens and costs for the respondents are as follows:

OMB Control Number: 3060-0057.

OMB Approval Date: August 7, 2015.

OMB Expiration Date: May 31, 2020.

Title: Application for Equipment Authorization, FCC Form 731.

Form Number: FCC Form 731.

Respondents: Business or other for-profit entities and state, local or tribal government.

Number of Respondents and Responses: 3,740 respondents and 22,250.

Estimated Time per Response: 35 hours.

Frequency of Response: On occasion reporting requirement and third party disclosure requirement.

Obligation to Respond: Required to obtain or retain benefits. The statutory authority for this collection is contained in 47 U.S.C. 154(i), 301, 302, 303(e), 303(f) and 303(r).

Total Annual Burden: 778,750.

Annual Cost Burden: No cost.

Privacy Act Impact Assessment: No impact(s).

Nature and Extent of Confidentiality: There is no need for confidentiality with this collection of information.

Needs and Uses: The FCC adopted a First Report and Order, FCC 15-47, for commercial use of 150 megahertz in the 3550-3700 MHz (3.5 GHz) band and a new Citizens Broadband Radio Service, published at 80 FR 36163, June 23, 2015. 3.5 GHz Band users will use Citizens Broadband Radio Service Devices (CBSDs) to operate, which are fixed stations, or networks of such stations that fall under two categories, Category A CBSDs, which operate at lower power, or Category B that operate at a higher power. The rules require compliance with information requirements contained in the First Report and Order already accounted for and approved under this Office of Management and Budget (OMB) control number and have not changed since they were last approved by OMB. The rules contain information collection requirements necessary for the Commission to determine compliance of proposed equipment with its rules.

The following is a description of the information collection requirements for which the Commission received OMB approval:

Section 96.49—Equipment Authorization: (a) Each transmitter used for operation under this part and each transmitter marketed as set forth in section 2.803 of this chapter must be of a type which has been certificated for use under this part. (b) Any manufacturer of radio transmitting equipment to be used in these services must request equipment authorization following the procedures set forth in subpart J of part 2 of this chapter.

Section 96.51—RF Safety: Licensees and manufacturers are subject to the radio frequency radiation exposure requirements specified in sections 1.1307(b), 1.1310, 2.1091, and 2.1093 of this chapter, as appropriate. Applications for equipment authorization of Mobile or Portable devices operating under this section must contain a statement confirming compliance with these requirements for both fundamental emissions and unwanted emissions and technical information showing the basis for this statement must be submitted to the Commission upon request.

Federal Communications Commission.
Marlene H. Dortch,
Secretary, Office of the Secretary.

[FR Doc. 2017-17637 Filed 8-21-17; 8:45 am]

BILLING CODE 6712-01-P